DEPARTMENT OF TRANSPORTATION

Office of the Secretary

Notice of Applications for Certificates of Public Convenience and Necessity and Foreign Air Carrier Permits Filed Under Subpart B (formerly Subpart Q) during the Week Ending June 11, 2011

The following applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0112.

Date Filed: June 8, 2011.

Due Date for Answers, Conforming Applications, or Motion to Modify Scope: June 29, 2011.

Description: Application of Victory Jet, LLC requesting a certificate of public convenience and necessity authorizing it to engage in interstate air transportation of persons, property, and mail on a charter.

Docket Number: DOT-OST-2011-0114.

Date Filed: June 9, 2011.

Due Date for Answers, Conforming Applications, or Motion to Modify Scope: June 30, 2011.

Description: Application of Cyprus Airways Public Limited (“Cyprus Airways”) requesting a foreign air carrier permit and related exemption that would enable it to provide: (a) Foreign scheduled and charter air transportation of persons, property, and mail from any point or points behind any Member State of the European Union via any point or points in any Member State and via intermediate points to any point or points in the United States and beyond; (b) foreign scheduled and charter air transportation of persons, property, and mail between any point or points in the United States and any point or points in any member of the European Common Aviation Area (“ECAA”); (c) other charters pursuant to the prior approval requirements; and (d) transportation authorized by any additional route rights made available to European Community carriers in the future.

Renee V. Wright,
Program Manager, Docket Operations, Federal Register Liaison.

[FR Doc. 2011-16285 Filed 6-28-11; 8:45 am]

BILLING CODE 4910-9X-P